ENVIRONMENTAL PROTECTION AGENCY

[GA-78 200703(c); FRL-8460-7]

Adequacy Status of the Atlanta Early Progress 8-Hour Ozone Motor Vehicle Emission Budgets for Transportation Conformity Purposes; Correction

AGENCY: Environmental Protection Agency (EPA).

ACTION: Notice of adequacy; correction.

SUMMARY: On April 9, 2007, EPA published a notice of adequacy for the 2006 Motor Vehicle Emissions Budgets (MVEBs) contained in Atlanta's Early Progress Plan. The MVEBs for nitrogen oxide (NOX) and the volatile organic compounds (VOC) were incorrectly stated. This document corrects the notice.

DATES: This action is effective August 24, 2007.

ADDRESSES: Copies of the documentation used in the notice being corrected are available for inspection during normal business hours at the following location: U.S. Environmental Protection Agency, Region 4, 61 Forsyth Street, SW., Atlanta, Georgia 30303-8960. The Regional Office's official hours of business are Monday through Friday, 8:30 to 4:30, excluding Federal holidays.

FOR FURTHER INFORMATION CONTACT: Lynorae Benjamin, Air Quality Modeling and Transportation Section, Air Planning Branch, Air, Pesticides and Toxics Management Division, U.S. Environmental Protection Agency, Region 4, 61 Forsyth Street, SW., Atlanta, Georgia 30303-8960. The telephone number is (404) 562-9040. Ms. Benjamin can also be reached via electronic mail at Benjamin.Lynorae@epa.gov. The finding is available at EPA's conformity Web site: http://www.epa.gov/otaq/stateresources/transconf/currsips.htm.

SUPPLEMENTARY INFORMATION:

Correction

EPA is correcting the error in the Federal Register notice, published on April 9, 2007 (72 FR 17550), which announced the adequacy finding for the 2006 MVEBs. In that notice on page 17550, in the third column, the table labeled “Atlanta 8-Hour Ozone MVEBs,” EPA inadvertently identified the NOX MVEB as 172.27 tpd and the VOC MVEB as 306.75 tpd. This action corrects that error. As announced in EPA's January 24, 2007, letter from Beverly Banister, Director of the Air, Pesticides and Toxics Management Division, to Heather Abrams, Chief of EPD's Air Protection Branch, the correct 2006 MVEBs for the Atlanta 8-Hour Ozone Area, as established by the Early Progress Plan, are provided in the following table.

Atlanta 8-Hour Ozone MVEBs
[Tons per day]
| 2006
NOX | 306.75
VOC | 172.27

Authority: 42 U.S.C. 7401 et seq.

Dated: August 16, 2007.
J.I. Palmer, Jr.,
Regional Administrator, Region 4.

[FR Doc. E7-16802 Filed 8-23-07; 8:45 am]

BILLING CODE 6560-50-P